ENVIRONMENTAL PROTECTION AGENCY

[FRL-6533-9]

Agency Information Collection Activities: Submission for OMB Review; Comment Request; Drinking Water State Revolving Fund Program

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Drinking Water State Revolving Fund Program; EPA ICR No. 1803.03; OMB No. 2040-0185; expiration date June 30, 2000. The ICR describes the nature of the information collection and its expected burden and cost; where appropriate, it includes the actual data collection instrument.

DATES: Comments must be submitted on or before March 13, 2000.

FOR FURTHER INFORMATION CONTACT: For a copy of the ICR contact Sandy Farmer at EPA by phone at (202) 260-2740, by email at farmer.sandy@epa.gov, or download off the Internet at http://www.epa.gov/icr and refer to EPA ICR No. 1803.03. For technical questions about the ICR, contact Vinh Nguyen at (202) 260-0715 or via email at nguyen.vinh@epa.gov. Additional information about the DWSRF program can be found at www.epa.gov/safewater/dwsrf.html.

SUPPLEMENTARY INFORMATION: Title: Drinking Water State Revolving Fund Program; OMB No. 2040-0185; EPA ICR No. 1803.03; expiration date June 30, 2000. This is a request for an extension of a currently approved collection.

Abstract: The Safe Drinking Water Act (SDWA) Amendments of 1996 (Public Law 104-182) authorize the creation of Drinking Water State Revolving Fund (DWSRF) programs in each State and Puerto Rico to assist public water systems to finance the costs of infrastructure needed to achieve or maintain compliance with SDWA requirements and to protect public health. Section 1452 authorizes the Administrator of EPA to award capitalization grants to the States and Puerto Rico which, in turn, provide low-cost loans and other types of assistance to eligible drinking water systems (i.e., local respondents).

The information collection activities will occur primarily at the program level through the Capitalization Grant Application and Agreement / State Intended Use Plan, Biennial Report, Annual Audit, and Assistance Application Review.

In order to receive a grant, the State must prepare a Capitalization Grant Application that includes an Intended Use Plan (IUP) outlining in detail how it will use funds in the program. The Capitalization Grant Agreement is the principal instrument by which the State commits to manage its revolving fund program in conformity with the requirements of the SDWA.

The State must agree to complete and submit a Biennial Report on the uses of the capitalization grant. The Biennial Report indicates how the State has met its goals and objectives of the previous two fiscal years as stated in the grant agreement, and more specifically in the IUP. The report provides information on loan recipients, loan amounts, loan terms, project categories of eligible costs, and similar data on other forms of assistance.

A State must, at minimum, comply with the provisions of the Single Audit Act Amendments of 1996. Best management practices suggest, and EPA recommends, that a State conduct an annual independent audit of its DWSRF program (including set-asides), which contains an opinion on the financial statements of the DWSRF, a report on its internal controls, and a report on compliance with applicable laws and the SDWA.

Because States provide assistance to local applicants, States assist local applicants in preparing DWSRF loan applications and verify that proposed projects will comply with applicable federal and state requirements.

EPA will use the Capitalization Grant Application / Intended Use Plan, Biennial Report, and Annual Audit to help conduct its oversight responsibilities as mandated by the SDWA.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on September 7, 1999 (64 FR 48615); 11 comments were received from two parties.

Burden Statement: The annual public reporting and recordkeeping burden for this collection of information is estimated to average 1,703 hours per State response and 80 hours per local respondent response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State and local governments and local respondents.

Estimated Number of Respondents: 1,377.

Frequency of Response: Annual.

Estimated Total Annual Hour Burden: 192,950 hours.

Estimated Total Annualized Cost Burden (non-labor costs): $0.

Send comments on the Agency's need for this information, the accuracy of the provided burden estimates, and any suggested methods for minimizing respondent burden, including through the use of automated collection techniques to the following addresses. Please refer to EPA ICR No. 1803.03 and OMB Control No. 2040-0185 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: February 2, 2000.
Oscar Morales,
Director, Collection Strategies Division.

[FR Doc. 00-3212 Filed 2-10-00; 8:45 am]

BILLING CODE 6560-50-P